SECURITIES AND EXCHANGE COMMISSION

[Release No. 34-80714; File No. SR-BatsBZX-2016-60]

Self-Regulatory Organizations; Bats BZX Exchange, Inc.; Notice of Withdrawal of a Proposed Rule Change to Bats BZX Rule 14.13, Company Listing Fees, and to the Bats BZX Fee Schedule

May 18, 2017.

On September 29, 2016, Bats BZX Exchange, Inc. (“Exchange” or “BZX”) filed with the Securities and Exchange Commission (“Commission”), pursuant to Section 19(b)(1) of the Securities Exchange Act of 1934 (“Act”) ¹ and Rule 19b-4 thereunder,² a proposed rule change to amend (1) the fees set forth in BZX Rule 14.13 applicable to securities listed on the Exchange, and (2) the fee schedule applicable to Members ³ and non-Members of the Exchange pursuant to Exchange Rules 15.1(a) and (c). BZX designated the proposed rule change as immediately effective upon filing with the Commission pursuant to Section 19(b)(3)(A) of the Act.⁴ On October 14, 2016, the Commission published notice of filing of the proposed rule change and pursuant to Section 19(b)(3)(C) of the Act: (1) Temporarily suspended the proposed rule change; and (2) instituted proceedings to determine whether to approve or disapprove the proposal.⁵ On April 14, 2017, pursuant to Section 19(b)(2) of the Act,⁶ the Commission designated a longer period within which to approve or disapprove the proposed rule change.⁷ The Commission received three comment letters on the proposal.⁸ On May 17, 2017, the Exchange withdrew the proposed rule change (SR-BatsBZX-2016-60).

¹ 15 U.S.C. 78s(b)(1).

² 17 CFR 240.19b-4.

³ A Member is defined as “any registered broker or dealer that has been admitted to membership in the Exchange.” See BZX Rule 1.5(n).

⁴ 15 U.S.C. 78s(b)(3)(A).

⁵ See Securities Exchange Act Release No. 79103, 81 FR 72624 (Oct. 20, 2016).

⁶ 15 U.S.C. 78s(b)(2).

⁷ See Securities Exchange Act Release No. 80461, 82 FR 18681 (Apr. 20, 2017). The Commission designated June 17, 2017, as the date by which it should approve or disapprove the proposed rule change.

⁸ See letter to Brent J. Fields, Secretary, Commission, from Kyle Murray, Assistant General Counsel, Bats Global Markets, Inc., dated November 22, 2016; letter to Brent J. Fields, Secretary, Commission, from Douglas A. Cifu, Chief Executive Officer, Virtu Financial, Inc., dated December 20, 2016; and letter to Brent J. Fields, Secretary, Commission, from Andrew Madar, Senior Associate General Counsel, NASDAQ Stock Market LLC, dated January 27, 2017. Comment letters are available at: https://www.sec.gov/comments/sr-batsbzx-2016-60/batsbzx201660.shtml.

For the Commission, by the Division of Trading and Markets, pursuant to delegated authority.⁹
⁹ 17 CFR 200.30-3(a)(12).
Eduardo A. Aleman,
Assistant Secretary.

[FR Doc. 2017-10582 Filed 5-23-17; 8:45 am]

BILLING CODE 8011-01-P